DEPARTMENT OF HEALTH AND HUMAN SERVICES

Administration for Children and Families

Administration on Children, Youth and Families, Children's Bureau; Funding Opportunity

Funding Opportunity Title: National Quality Improvement Center on the Privatization of Child Welfare Services.

Announcement Type: Initial.

Funding Opportunity Number: HHS-2005-ACF-ACYF-CA-0027.

CFDA Number: 93.670.

Due Date for Applications: Application is due August 5, 2005.

Executive Summary: The purpose of this funding announcement is to award a cooperative agreement for the creation of a national Quality Improvement Center (QIC) focused on identifying effective practices in the privatization of child welfare services. The QIC will assess needs and resources, then plan and implement research and demonstration activities to develop knowledge about improving child welfare services and systems through privatization.

The QIC will be awarded funds for a planning period and an implementation phase. During the planning period, the QIC will engage in a collaborative process to review the literature, clarify the focus and refine the implementation plan for the remainder of its child welfare privatization knowledge-building activities. During the implementation phase, the QIC will sponsor (through sub-grants), monitor and evaluate research or demonstration projects that test a variety of privatization models or hypotheses at multiple sites. The QIC will also provide technical assistance to its sub-grantees, funded under this initiative.

I. Funding Opportunity Description

The purpose of this funding announcement is to award a cooperative agreement for the creation of a national Quality Improvement Center (QIC) focused on identifying effective practices in the privatization of child welfare services. The QIC will assess needs and resources, then plan and implement research and demonstration activities to develop knowledge about improving child welfare services and systems through privatization.

The QIC will be awarded funds for a planning period and an implementation phase. During the planning period, the QIC will engage in a collaborative process to review the literature, clarify the focus and refine the implementation plan for the remainder of its child welfare privatization knowledge-building activities. During the implementation phase, the QIC will sponsor (through sub-grants), monitor and evaluate research or demonstration projects that test a variety of privatization models or hypotheses at multiple sites. The QIC will also provide technical assistance to its sub-grantees, funded under this initiative.

Priority Area 1

National Quality Improvement Center on the Privatization of Child Welfare Services

1. Description

The purpose of this funding announcement is to award a cooperative agreement for the creation of a national Quality Improvement Center (QIC) focused on identifying effective practices in the privatization of child welfare services. The QIC will assess needs and resources, then plan and implement research and demonstration activities to develop knowledge about improving child welfare services and systems through privatization.

The QIC will be awarded funds for a planning period and an implementation phase. During the planning period, the QIC will engage in a collaborative process to review the literature, clarify the focus and refine the implementation plan for the remainder of its child welfare privatization knowledge-building activities. During the implementation phase, the QIC will sponsor (through sub-grants), monitor and evaluate research or demonstration projects that test a variety of privatization models or hypotheses at multiple sites. The QIC will also provide technical assistance to its sub-grantees, funded under this initiative.

Background

Our nation's child welfare systems are faced with the challenge of producing positive outcomes for the children and families they serve. Over the past several years, many States have embarked on system improvement efforts in response to changes in Federal laws, shrinking State budgets, and/or emerging trends and innovations in the field of child welfare. System improvements have been further spurred by the CB's approach to monitoring the performance of State child welfare systems by assessing outcomes. These reviews seek to determine what is actually happening to children and families as they are engaged in State child welfare services, and to assist States to enhance their capacity to help children and families achieve positive outcomes.

In October, 2004, the Administration for Children and Families (ACF)/Children's Bureau released its report on findings from the initial Child and Family Services Reviews (CFSRs). This report includes data from all 50 States, the District of Columbia, and Puerto Rico regarding States' conformity with Federal standards for child welfare. General findings from the Federal Child and Family Services Review may be found at http://www.acf.hhs.gov/programs/cb/cwrp/results/statefindings/genfindings04/index.htm. The report discusses common challenges that States face in providing for the safety, permanency and well-being of children. One common challenge pertains to conducting risk and safety assessments that are sufficiently comprehensive to capture underlying family problems that might contribute to child maltreatment. Other common challenges pertain to providing sufficient services to children and parents when children remain in their own homes, monitoring participation in services, and determining on an ongoing basis whether the family situation has altered enough to reduce risk of harm to the child. Another key challenge for many States is having a sufficient number and type of placement options to ensure that a child's out-of-home placement is based on appropriateness rather than availability. Many States also are experiencing challenges in implementing concurrent planning on a consistent basis.

Some States and counties are turning to privatization of their child welfare services. They believe this will move the system toward innovation through competition with incentives for good results. Their goals are to increase efficiency and effectiveness, improve outcomes for children and families, and control costs. Given the Children's Bureau's mission of child safety, permanency of placement, and well-being of children and families, it is incumbent that new and promising approaches to supporting children and families be tested.

Some child welfare services have already been privatized, some are in the process of being privatized and some States are considering privatization. Kansas and Florida have implemented statewide privatization efforts, while in Missouri; Maine; Hamilton County, Ohio; and Wayne County, Michigan, initiatives are targeted to specific populations such as foster care and low-risk families (An Assessment of the Privatization of Child Welfare Services: Challenges and Successes; 2003, Freundlich, M.; Gerstenzang, S; Children's Rights, Inc., New York, NY).

Growing numbers of public child welfare agencies are entering into arrangements with private entities to provide services for children and families. However, experts do not always agree on the value of these efforts, in terms of cost savings, efficiency, and improved outcomes (Experts Disagree About Benefits of Child Welfare Privatization, Children's Bureau Express, March, 2003 http://cbexpress.acf.hhs.gov/nonissart.cfm?issue_id=2003-03&disp_art=610&hlt=1.

Privatization can take a variety of forms. Privatization—

○ can be State wide or limited to certain parts of States.

○ can include all of child welfare, or just parts, such as investigation, family preservation, in-home services, adoption and/or foster care.

○ can be done all at once, or phased in gradually.

○ approaches include purchase-of-service, managed care and network development (i.e., contract with local lead agencies that in turn subcontract to create comprehensive service networks).

○ service providers may be non-profit or for-profit organizations.

The success of privatization initiatives—

○ can be judged by the extent to which it improves outcomes for children and families and/or saves money.

○ can depend on the quality of the performance-based contract.

Privatization efforts take place against a backdrop of Federal law and regulations that must be considered as public agencies strategically use contracting to help them achieve their goals. These include, but are not limited to:

○ Section 471(a) (2) of the Social Security Act, which requires that a single State agency administer or supervise the administration of the title IV-E programs to assure the uniform statewide operation of these programs and proper accountability to the Federal government.

○ 45 CFR-205.100(b), which provide for this uniformity and accountability by requiring the designated single State agency to perform those administrative functions that require the exercise of discretion. The regulations prohibit the State agency from delegating (to other than its own officials) its authority for exercising administrative discretion in the administration or supervision of the [State] plan.

○ Office of Management and Budget Circular A-76, “Performance of Commercial Activities,” which in pertinent part sets the parameters for identifying inherently governmental function.

When privatizing child welfare services, the State maintains administrative control and ultimate responsibility for the components of the Child Welfare system that are being contracted out to the private sector.

In 1998 the Child Welfare League of America stated “Twenty-nine states reported to the Child Welfare League of America that they utilized a managed care or privatization model for the delivery of child welfare services. The states identified a total of 47 initiatives that were designed to improve the effectiveness and efficiency of services through changes in management tools and funding or contract strategies. Most of the initiatives have transferred responsibility for the management and delivery of services to private nonprofit agencies. However, the public agency has a primary role in decision making.” (Managed Care and Privatization Child Welfare Tracking Project: 1998 State and County Survey Results, McCullough, C.;Schmitt, B.; Child Welfare League of America).

Through the national Quality Improvement Center on the Privatization of Child Welfare Services, the ACF/Children's Bureau will develop and disseminate knowledge about what works to States or counties which are considering or have chosen to privatize part or all of their Child Welfare system. This support is intended to improve the likelihood that these privatization activities will result in better outcomes for children and families.

The Children's Bureau has an interest in finding answers to questions about privatization of child welfare services, including—

○ What is currently known about challenges, successful strategies, lessons learned, recommendations, best practices?

○ What knowledge gaps exist regarding challenges, successful strategies, lessons learned, recommendations, best practices?

○ Is enough now known about privatization of child welfare services to promote it, or does the field first need to find out more about it? Are there aspects that can be promoted now, like best practices in contracting, while more is learned about other issues?

○ Are there aspects of child welfare privatization that are more commonly practiced, or that are more effectively practiced?

○ What is known about the role of faith-based child welfare agencies and their congregational partners in the privatization of the child welfare system? Is there any evidence of effective models of collaboration?

○ Are there portions of the child welfare system that lend themselves to privatization more than other portions?

○ Are there some areas that should not be privatized?

○ What kind of contract monitoring capacity should exist within child welfare agencies before they undertake these efforts?

○ Are there certain jurisdictions (e.g. urban/rural) or populations (youth, children with special needs) for which privatization is more appropriate?

○ How is child welfare privatization similar to/different from privatization of other social services like child care, child support enforcement, health care, etc.? If there are similarities, what can be learned from these other privatization initiatives that can be applied to child welfare privatization?

Legislative Authority

The Promoting Safe and Stable Families Program, Title IV-B, subpart 2 of the Social Security Act, as amended (42 U.S.C. 629 et seq.); see Section 435 (42 U.S.C. 629(e)).

The Child Abuse Prevention and Treatment Act Section 105(b)(5)a (42 U.S.C. 5106).

Projects funded under this announcement will be expected to:

1. Have the project fully functioning within 90 days following the notification of the grant award.

2. Participate if the Children's Bureau chooses to do a national evaluation or a technical assistance contract that relates to this funding announcement.

3. Submit all performance indicator data, program and financial reports in a timely manner, in recommended format (to be provided), and submit the final report on disk or electronically using a standard word-processing program.

4. Submit a copy of the final report, the evaluation report, and any program products to the National Clearinghouse on Child Abuse and Neglect Information, 330 C Street, SW., Washington, DC 20447, within 90 days of project end date. This is in addition to the standard requirement that the final program and evaluation report must also be submitted to the Grants Management Specialist and the Federal Project Officer.

5. Allocate sufficient funds in the budget to:

(a) Provide for the project director, the evaluator and other key partners to attend an annual 3-day grantees' meeting in Washington, DC.

(b) Provide for the project director, the evaluator and other key partners to attend an early kickoff meeting for grantees funded under this priority area to be held within the first three months of the project (first year only) in Washington, DC; and

(c) Provide for 10-15 percent of the proposed budget to project evaluation.

Roles and Responsibilities of the Quality Improvement Center on the Privatization of Child Welfare Services

The Quality Improvement Center on the Privatization of Child Welfare Services is expected to perform the following functions:

(a) Develop knowledge about improving outcomes for children and family in the child welfare system through privatization;

(b) Promote collaborative problem solving among sub-grantees;

(c) Develop and implement privatization research and demonstration projects to promote innovation, evidence-based practice improvements, and advancement of knowledge about privatization of child welfare services;

(d) Establish an information-sharing network to disseminate information on promising practices; and

(e) Evaluate the impact of privatization on the quality, availability, cost-effectiveness and overall effectiveness of child welfare services.

It must be emphasized that the QIC on the Privatization of Child Welfare Services will not assume training, technical assistance and information dissemination functions and responsibilities currently performed by the Children's Bureau National Resource Centers, Clearinghouses, and other T/TA Network partners.

One distinctive function of the QIC that separates it from other support resources provided by the Children's Bureau is that the QIC will build knowledge in the area of child welfare service privatization by announcing and disbursing sub-grant funding to conduct research and demonstration projects. The QIC will also monitor and evaluate these research or demonstration projects and provide technical assistance and support to these sub-grantees.

Research and demonstration projects sponsored by the QIC under this initiative must:

(a) Develop and implement an evidence-based privatization model or innovative improvement through privatization of the Child Welfare system with specific components or strategies that are based on theory, research, or evaluation data;

(b) Conduct an evaluation and cost analysis to determine the effectiveness and cost-effectiveness of the model and its components or strategies using multiple measures of results; and

(c) Produce detailed procedures and materials, based on the evaluation, that will contribute to and promote evidence-based strategies, practices and programs that may be used to guide replication or testing in other settings.

Specific Tasks To Be Performed by the Quality Improvement Center During the Planning and Implementation Phases

Applicants are required to submit a design that clearly and concisely describes a strategy for a 12-month planning phase (Phase I) for the development of the QIC to be followed by a 48-month implementation phase (Phase II). In Phase II, the QIC will announce, award, monitor and evaluate 48-month, research and demonstration project sub-grants. The QIC will also provide technical assistance (using its own resources or through sub-contracts with other technical assistance providers) to sub-grantees funded under this initiative.

The QIC will be required to cooperate fully with any evaluation requested by the ACF/Children's Bureau. The QIC will also be required to conduct an evaluation of the research and demonstration projects they sponsor.

Travel for Conferences and Presentations

Within two months after the award of the 12-month planning phase of the cooperative agreement, the project director of the QIC will be required to attend a 1-day work planning meeting in Washington, DC, with the Federal Project Officer and other staff of the ACF/Children's Bureau for the purpose of discussing details of the project work plan and cooperative agreement.

Additionally, 10 months after the award of the 12-month planning cooperative agreements, the QIC awardee will be required to make an oral presentation to the ACF/Children's Bureau staff in Washington, DC, to describe and defend their plan for the Phase II-Version A implementation (described below). Applicants are advised to propose sending three project staff to make the presentation—the project director, the evaluator and one other key partner).

The budget for the 12-month planning grant should include funding for these three meetings in Washington, DC: the project director's meeting within two months, the three-person presentation meeting at month 10, and two key staff persons to the ACF/Children's Bureau annual grantees meeting, usually held in the spring. In each of the four implementation years, the QIC awardee will be expected to send only the project director and the evaluator to the annual grantee meeting.

Plan for Phase I (Planning)

Applicants are expected to present a Phase I plan that addresses the components described in the Background section of this announcement and includes, but is not limited to: (1) An analysis of the current state of privatization in child welfare, and the issues and opportunities privatization presents for improving child welfare practice and (2) a feasible and appropriate method for conducting a comprehensive needs assessment; (3) a systematic approach for fine tuning the topic focus and refining the implementation plan; (4) a strategy for developing a comprehensive review of the literature and best practices; (5) an approach and method for the timely development of the Phase II implementation plan; and (6) a preliminary design for the Phase II-Version A implementation plan that presents a clear and comprehensive vision of how the proposed QIC would operate.

Although applicants will be accorded considerable flexibility in developing a strategy tailored to the needs and resources they identify in their Year 1 comprehensive needs assessment, it is anticipated that applications for the first year of funding must present a method for completing the following tasks during Phase I:

(a) Conduct a comprehensive needs assessment that describes and evaluates the effectiveness of current child welfare service privatization efforts and identifies service gaps, knowledge gaps, and other issues (e.g., legal, cultural, administrative) related to the effective privatization of child welfare services. This assessment should include, but not be limited to, the collection and analysis of data on the following factors, as appropriate:

• Demographic characteristics of the children and families receiving privatized child welfare services and the disposition of these cases (e.g., investigated, referred to social services, or referred to court);

• Availability of agencies and community-based organizations that can provide privatized services (including drug/alcohol and mental health treatment facilities and programs) for families involved in the child welfare system;

• Legal, administrative, court, social service, financial and other issues related to the effective privatization of child welfare services;

• Strengths and weaknesses of current privatization practices pertaining to engagement, assessment, case planning and service delivery, monitoring and evaluation, case closure and outcomes for children;

• Agencies on the national, regional, State and local level that are engaged in child welfare service privatization activities;

• Availability of resources on the national, regional, State and local level; and

• Gaps in knowledge and resources on the national, regional, State and local level.

In developing a strategy for conducting the needs assessment, applicants are advised to propose methods that do not require respondents to complete written surveys or questionnaires, because these surveys will require prior approval from the Office of Management and Budget (OMB). The OMB approval process takes approximately 5-6 months. Methods that do not require prior OMB approval include conference calls, focus groups, and unstructured telephone or in-person interviews.

(b) Conduct a literature review that provides a comprehensive analysis of the research and promising practices nationally and regionally on privatization of child welfare services, including cultural, financial, legal, bureaucratic and other barriers to the effective privatization of child welfare services;

In the implementation phase (Phase II), the QIC will focus on 4 years of research/demonstration projects. Therefore, the work plan has to be of sufficient scope and magnitude to merit intensive investigation. The activities identified in the work plan and the findings from the research and demonstration projects sponsored by the QIC should have a high probability of significantly advancing theory, policy and evidence-based practice in the field. Additionally, and as explained below, the research and demonstration projects implemented in Phase II should be designed to evaluate multiple approaches and/or multi-site interventions on the selected focus topic. This strategy dictates that the number of subjects (e.g., children, families, social service providers, case workers, supervisors) be large enough to sustain a rigorous, methodologically sound implementation and evaluation plan.

Because the QIC initiative is funded through a cooperative agreement, the work plan will be subject to final approval by the Children's Bureau.

Plan for Phase II—Version A: Implementation

In Phase I, the QIC will be required to develop and submit a Phase II—Version A plan for announcing and awarding research and demonstration sub-grants, and monitoring and evaluating these projects. These plans are expected to build on knowledge gained from a review of the literature and promising practices in the field, the results from the comprehensive needs assessment, and input from other sources.

Applicants are required to submit a preliminary design for Phase II—Version A in this application that presents a clear and comprehensive vision of how the proposed QIC would operate. Applicants are expected to describe the approach and processes that will be used to develop the implementation plan, and address anticipated logistical and administrative issues. The Phase II—Version A plan will be due 9 months after the award of the cooperative agreement and must include, but not be limited to, the following components:

1. Comprehensive review of the literature developed during the planning phase (Phase I);

2. Conceptual framework or logic model describing the linkages between and among the (a) attributes of the populations, problems, conditions, and systems that are the target of the interventions; (b) strategies; (c) resources; (d) traditional and innovative services/strategies to be provided; and (e) short- and long-term outcomes;

3. Administrative structure for announcing the availability of funding, and reviewing and awarding sub-grants, including program description, eligibility, funding levels, application evaluation criteria and selection process. Eligible applicants for sub-grants will be those agencies that have authority over the child welfare functions to be privatized;

4. The QIC will be required to provide technical assistance to prospective sub-grantees to assist them in designing initiatives that meet the standards for research and demonstration projects funded under this initiative. The design of these projects must be evidence-based with specific components or strategies that are based on theory, research, or evaluation data. They must also pertain to issues of national scope and incorporate logic models and an evaluation framework.

At a minimum, technical assistance provided by the QIC to prospective sub-grantees should consist of instructions and materials providing information on grant application requirements, suitable grant topics, the role of partnerships and collaborations, program and research designs, data sources and data collection strategies, and evaluation designs and analytic techniques. Other vehicles for providing technical assistance may be proposed. For example, QIC applicants may propose conducting a 1-day workshop open to all prospective grantees in the designated geographical region. The workshop should be designed to provide information and answer questions of attendees;

5. Technical assistance to sub-grantees awarded funding by the QIC. The QIC will be required to not only monitor the operations of the sub-grantee projects, but also provide ongoing support, guidance, and technical assistance to sub-grantees to assist them in project implementation, data collection and evaluation;

6. Administrative and management structure for ensuring that sub-projects are implemented within 90-days of the award of their funding by the QIC, monitoring sub-grants funded under this initiative, including appropriate plans for fiscal accountability from the sub-grantees;

7. Mechanisms for forming and maintaining a consortium and information-sharing network consisting of partnerships with and among sites awarded grants sponsored by the QIC (The Children's Bureau anticipates that the members of the consortium will meet regularly to exchange information and engage in collaborative problem-solving efforts.);

8. Methodology for evaluating sub-grantee research and demonstration projects, including ensuring that appropriate qualitative and quantitative process and outcome data are collected by sub-grantees and participating agencies and organizations;

9. Strategy for information dissemination, including fostering and strengthening communication and coordination activities with National Resource Centers and Clearinghouses including, but not limited to, the National Data Archive on Child Abuse and Neglect and the National Clearinghouse on Child Abuse and Neglect Information; and

10. Institutionalize linkages with appropriate agencies, organizations and resources on the local, State or Federal level that are addressing issues pertaining to the prevention and treatment of child abuse and neglect and the functions and operations of child welfare services.

Presentation. Ten months after the award of the cooperative agreement, the grantee will be required to make an oral presentation to the ACF/Children's Bureau staff in Washington, D.C., to describe and defend their Phase II—Version A implementation plan.

Plan for Phase II—Version B: Implementation

One month after the presentation, the QIC will be required to submit a revised implementation work plan (Plan for Phase II—Version B) incorporating the recommendations of the Children's Bureau staff. This plan will be subject to further review and approval by the ACF/Children's Bureau prior to continuation funding.

II. Award Information

Funding Instrument Type: Cooperative Agreement.

Federal Substantial Involvement with Cooperative Agreement: A cooperative agreement is a specific method of awarding Federal assistance in which substantial Federal involvement is anticipated. A cooperative agreement clearly defines the respective responsibilities of the ACF/Children's Bureau and the grantee prior to the award. The ACF/Children's Bureau anticipates that agency involvement will produce programmatic benefits to the recipient otherwise unavailable to them for carrying out the project. The involvement and collaboration includes ACF/Children's Bureau review and approval of planning stages of the activities before implementation phases may begin; ACF/Children's Bureau involvement in the establishment of policies and procedures that maximize open competition, and rigorous and impartial development, review and funding of grant or sub-grant activities, if applicable; and ACF/Children's Bureau and recipient joint collaboration in the performance of key programmatic activities (i.e., strategic planning, implementation, information technology enhancements, training and technical assistance, publications or products, and evaluation). It also includes close monitoring by the Children's Bureau of the requirements stated in this announcement that limit the grantee's discretion with respect to scope of services offered, organizational structure and management processes, coupled with close ACF/Children's Bureau monitoring during performance, which may, in order to ensure compliance with the intent of this funding, exceed those Federal stewardship responsibilities customary for grant activities.

Anticipated Total Priority Area Funding:$900,000.

Anticipated Number of Awards: 0 to 1.

Ceiling on Amount of Individual Awards Per Budget Period:$900,000.

Average Projected Award Amount Per Budget Period:$900,000.

Length of Project Periods: 60 month project with five 12 month budget periods; Other.

Explanation of Other: The maximum Federal share of this project is not to exceed $900,000 per period. In years 2-5 the grantee will use $550,000 per year for operating the QIC and will award the balance of the grant funds ($350,000 per year) to sub-grantees. The project awarded will be for a project period of 60 months. The initial grant award will be for a 12-month budget period. The award of continuation beyond each 12-month budget period will be subject to the availability of funds, satisfactory progress on the part of the grantee, and a determination that continued funding would be in the best interest of the government.

III. Eligibility Information

1. Eligible Applicants

State controlled institutions of higher education, Non-profits having a 501(c)(3) status with the IRS, other than institutions of higher education, Non-profits that do not have a 501(c)(3) status with the IRS, other than institutions of higher education, Private institutions of higher education, For-profit organizations other than small businesses, Small businesses.

Additional Information on Eligibility: Partnerships are encouraged between for-profit and non-profit agencies and universities with experience in child welfare and privatization issues, but applications should identify a primary applicant responsible for administering the grant.

Faith-based and community organizations that meet all other eligibility criteria are eligible to apply.

2. Cost Sharing/Matching

Yes.

In year 1 the required match is 10 percent of the total project, based on the $900,000 Federal share. The total approved cost of the project is the sum of the ACF share and the non-Federal share. The non-Federal share may be met by cash or in-kind contributions, although applicants are encouraged to meet their match requirements through cash contributions. Therefore, a project requesting $900,000 in Federal funds for the first budget period must provide a match of at least $100,000 (10 percent of the total approved project costs) in the first budget period. In years 2-5 the required match is 10 percent based on the $550,000 of the Federal share which the QIC uses to operate the project. In years 2-5 the QIC will not be required to match the $350,000 which is awarded by the QIC to its sub-grantees.

The project or activity will have a greater likelihood of success if the grantee contributes to the costs of the project. Cost-sharing will not be used as a preference and/or evaluation criterion in the review of applications.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be eligible for funding under this announcement.

Any application that fails to satisfy the deadline requirements referenced in Section IV.3 will be considered non-responsive and will not be considered for funding under this announcement.

IV. Application and Submission Information

1. Address To Request Application Package

ACYF Operations Center, c/o The Dixon Group, Inc. ATTN: ACF/Children's Bureau, 118 Q St., NE., Washington, DC 20002-2132.

2. Content and Form of Application Submission

Each application must contain the following items in the order listed:

Application for Federal Assistance (Standard Form 424). Follow the instructions below and those that accompany the form.

In Item 5 of Form 424, put DUNS number in “Organizational DUNS:” box.

In Item 5 of Form 424, include name, phone number, and, if available, email and fax numbers of the contact person.

In Item 8 of Form 424, check “New.”

In Item 10 of Form 424, clearly identify the Catalog of Federal Domestic Assistance (CFDA) program title and number for the program for which funds are being requested as stated in this funding opportunity announcement.

In Item 11 of Form 424, identify the single funding opportunity the application addresses.

In Item 12 of Form 424, identify the specific geographic area to be served.

In Item 14 of Form 424, identify Congressional districts of both the applicant and project.

Budget Information Non-Construction Programs (Form 424A) and Budget Justification.

Follow the instructions provided here and those in Section V. Application Review Information. Note that Federal funds provided to States and services or other resources purchased with Federal funds may not be used to match project grants.

Certifications/Assurances. Applicants requesting financial assistance for non-construction projects must file the Standard Form 424B, “Assurances: Non-Construction Programs.” Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the applications.

If applicable, applicants must include a completed SPOC certification (Single Point of Contact) with the date of the SPOC contact entered in line 16, page 1 of the Form 424.

In implementing their projects, grantees are expected to comply with all applicable administrative regulations regarding extent or types of costs. Applicable DHHS regulations can be found in 45 CFR Part 74 or 92.

Project Abstract/Summary (one page maximum, double spaced). Clearly mark this page with the applicant name as shown on item 5 of the Form 424, identify the competitive grant funding opportunity and the title of the proposed project as shown in item 11 and the service area as shown in item 12 of the Form 424. The summary description should not exceed 300 words.

Care should be taken to produce an abstract/summary that accurately and concisely reflects the proposed project. It should describe the objectives of the project, the approach to be used and the results or benefits expected.

Project Description for Evaluation. Applicants should organize their project description in this sequence: (1) Objectives and Need for Assistance; (2) Approach; (3) Organizational Profiles; (4) Budget and Budget Justification.

Match. Provide a letter of commitment verifying the actual amount of the non-Federal share of project costs (see Section III.2).

Indirect cost rate agreement. If claiming indirect costs, provide documentation that applicant currently has an indirect cost rate approved by the Department of Health and Human Services (HHS) or another cognizant Federal agency.

Letters of agreement and memoranda of understanding. If applicable, include a letter of commitment or Memorandum of Understanding from each partner and/or sub-contractor describing their role, detailing specific tasks to be performed, and expressing commitment to participate if the proposed project is funded.

General Content and Form Information

The application limit is 90 pages total including all forms and attachments. Pages over this page limit will be removed from the application and will not be reviewed.

The ACF/Children's Bureau strongly prefers that the entire application (including all forms, assurances and letters of commitment) be sent in one package.

To be considered for funding, each application must be submitted with the Standard Federal Forms (provided at the end of this announcement or through the electronic links provided) and following the guidance provided. The application must be signed by an individual authorized to act for the applicant agency and to assume responsibility for the obligations imposed by the terms and conditions of the grant award.

To be considered for funding, each applicant must submit one signed original and two additional copies of the application, including all forms and attachments, to the Application Receipt Point specified in the section titled Deadline at the beginning of the announcement. The original copy of the application must have original signatures.

The application must be typed, double spaced, printed on only one side, with at least ½ inch margins on each side and 1 inch at the top and bottom, using standard 12 Point fonts (such as Times Roman or Courier). Pages must be numbered.

All copies of an application must be submitted in a single package, and a separate package must be submitted for each funding opportunity. The package must be clearly labeled for the specific funding opportunity it is addressing.

Because each application will be duplicated, do not use or include separate covers, binders, clips, tabs, plastic inserts, maps, brochures, or any other items that cannot be processed easily on a photocopy machine with an automatic feed. Do not bind, clip, staple, or fasten in any way separate subsections of the application, including supporting documentation; however, each complete copy must be stapled securely in the upper left corner. Applicants are advised that the copies of the application submitted, not the original, will be reproduced by the Federal government for review.

Applicants have the option of omitting from the application copies (not the original) specific salary rates or amounts for individuals specified in the application budget and Social Security numbers, if otherwise required for individuals. The copies may include summary salary information.

Tips for Preparing a Competitive Application. It is essential that applicants read the entire announcement package carefully before preparing an application and include all of the required application forms and attachments. The application must reflect a thorough understanding of the purpose and objectives of the applicable legislation. Reviewers expect applicants to understand the goals of the legislation and the ACF/Children's Bureau's interest in each topic. A “responsive application” is one that addresses all of the evaluation criteria in ways that demonstrate this understanding. Applications that are considered to be “unresponsive” generally receive very low scores and are rarely funded.

The ACF/Children's Bureau's Web site (http://www.acf.dhhs.gov/programs/cb) provides a wide range of information and links to other relevant Web sites. Before you begin preparing an application, we suggest that you learn more about the mission and programs of the Children's Bureau by exploring the Web site.

Organizing Your Application. The specific evaluation criteria in Section V of this funding announcement will be used to review and evaluate each application. The applicant should address each of these specific evaluation criteria in the project description. Applicants should organize their project description in this sequence: (1) Objectives and Need for Assistance; (2) Approach; (3) Organizational Profiles; (4) Budget and Budget Justification; and should use the same headings as these criteria, so that reviewers can readily find information that directly addresses each of the specific review criteria.

Project Evaluation Plan. Project evaluations are very important. If you do not have the in-house capacity to conduct an objective, comprehensive evaluation of the project, then the ACF/Children's Bureau advises that you propose contracting with a third-party evaluator specializing in social science or evaluation, or a university or college, to conduct the evaluation. A skilled evaluator can assist you in designing a data collection strategy that is appropriate for the evaluation of your proposed project. Additional assistance may be found in a document titled “Program Manager's Guide to Evaluation.” A copy of this document can be accessed at http://www.acf.hhs.gov/programs/core/pubs_reports/prog_mgr.html or ordered by contacting the National Clearinghouse on Child Abuse and Neglect Information, 330 C Street, SW., Washington, DC 20447; phone (800) 394-3366; fax (703) 385-3206; e-mail nccanch@calib.com.

Use of Human Subjects. If your evaluation plan includes gathering data from or about clients, there are specific procedures which must be followed in order to protect their privacy and ensure the confidentiality of the information about them. Applicants planning to gather such data are asked to describe their plans regarding an Institutional Review Board (IRB) review. If applicable, applicants must include a completed Form 310, Protection of Human Subjects. For more information about use of human subjects and IRB's you can visit these Web sites: http://www.hhs.gov/ohrp/irb/irb_chapter2.htm#d2 and http://www.hhs.gov/ohrp/humansubjects/guidance/ictips.htm.

You may submit your application to us in either electronic or paper format. To submit an application electronically, please use the http://www.Grants.gov/Apply site. If you use Grants.gov, you will be able to download a copy of the application package, complete it off-line, and then upload and submit the application via the Grants.gov site. ACF will not accept grant applications via e-mail or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov

• You must search for the downloadable application package by the CFDA number.

Originals, Copies and Signatures

If submitting your application in paper format, an original and two copies of the complete application are required. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications: The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Pub. L. 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Those organizations required to provide proof of non-profit status, please refer to Section III.3.

Please see Section V.1, for instructions on preparing the full project description.

3. Submission Dates and Times

Explanation of Due Dates

The closing time and date for receipt of applications is 4:30 p.m. (Eastern Time Zone) on the date noted above. Mailed or hand carried applications received after 4:30 p.m. on the closing date will be classified as late.

Deadline: Mailed applications shall be considered as meeting an announced deadline if they are received on or before the deadline time and date at the ACYF Operations Center, c/o The Dixon Group, Inc., ATTN: ACF/Children's Bureau, 118 Q Street NE., Washington, DC 20002-2132. Applicants are responsible for mailing applications well in advance, when using all mail services, to ensure that the applications are received on or before the deadline time and date.

Applications hand-carried by applicants, applicant couriers, other representatives of the applicant, or by overnight/express mail couriers shall be considered as meeting an announced deadline if they are received on or before the deadline date, between the hours of 8 a.m. and 4:30 p.m., EST, at the ACYF Operations Center, c/o The Dixon Group, Inc., ATTN: ACF/Children's Bureau, 118 Q Street NE., Washington, DC 20002-2132, between Monday and Friday (excluding Federal holidays). This address must appear on the envelope/package containing the application with the note. Applicants are cautioned that express/overnight mail services do not always deliver as agreed.

Late applications: Applications which do not meet the criteria above are considered late applications. ACF shall notify each late applicant that its application will not be considered in the current competition. Any application received after 4:30 p.m. on the deadline date will not be considered for competition. Applicants using express/overnight mail services should allow two working days prior to the deadline date for receipt of applications. (Applicants are cautioned that express/overnight mail services do not always deliver as agreed).

Extension of deadlines: ACF may extend application deadlines when circumstances such as acts of God (floods, hurricanes, etc.) occur, or when there are widespread disruptions of mail service, or in other rare cases. A determination to extend or waive deadline requirements rests with the Chief Grants Management Officer.

Checklist:

You may use the checklist below as a guide when preparing your application package.

What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF424 | See Section IV.2 | See http://www.acf.hhs.gov/programs/ofs/forms.htm | By application due date.
SF-LLL Certification Regarding Lobbying | See Section IV.2 | See http://www.acf.hhs.gov/programs/ofs/forms.htm | By application due date.
Certification Regarding Environmental Tobacco Smoke | See Section IV.2 | See http://www.acf.hhs.gov/programs/ofs/forms.htm | By application due date.
Assurances | See Section IV.2 | See http://www.acf.hhs.gov/programs/ofs/forms.htm | By application due date.
SF424A | See Section IV.2 | See http://www.acf.hhs.gov/programs/ofs/forms.htm | By application due date.
SF424B | See Section IV.2 | See http://www.acf.hhs.gov/programs/ofs/forms.htm | By application due date.
Proof of Non-Profit Status | See Section III.3 | Found in Section III.3 | By application due date.
Letters of commitment from partners (if applicable) | See Section IV | See Section IV | By application due date.
Indirect Cost Rate Agreement (if applicable) | See Section IV | See Section IV | By application due date.
Non-Federal Commitment Letter | See Section III.2 | See Section III.2 | By Time of Award.

Additional Forms:

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form | Found in http://www.acf.hhs.gov/programs/ofs/forms.htm | By application due date (with application).

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade, SW., 4th floor, Washington, DC 20447.

When comments are submitted directly to ACF, they should be addressed to: Department of Health and Human Services, Administration for Children and Families, Division of Discretionary Grants, 370 L'Enfant Promenade, SW., Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions elected to participate in E.O. 12372 can be found on the following URL: http://www.whitehouse.gov/omb/grants/spoc.html.

5. Funding Restrictions

Grant awards will not allow reimbursement of pre-award costs.

Construction is not an allowable activity or expenditure under this solicitation.

6. Other Submission Requirements

Submission by Mail: An applicant must provide an original application with all attachments, signed by an authorized representative and two copies. Please see Section IV.3 for an explanation of due dates. Applications should be mailed to: c/o The Dixon Group, Inc. ATTN: ACF/Children's Bureau, Attention: ACYF Operations Center, 118 Q St., NE., Washington, DC 20002-2132.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: c/o The Dixon Group, Inc. ATTN: ACF/Children's Bureau, Attention: ACYF Operations Center, 118 Q St., NE., Washington, DC 20002-2132.

Electronic Submission: http://www.Grants.gov Please see Section IV.2 for guidelines and requirements when submitting applications electronically.

V. Application Review Information

The Paperwork Reduction Act of 1995 (Pub. L. 104-13)

Public reporting burden for this collection of information is estimated to average 40 hours per response, including the time for reviewing instructions, gathering and maintaining the data needed and reviewing the collection information.

The project description is approved under OMB control number 0970-0139 which expires April 30, 2007.

An agency may not conduct or sponsor, and a person is not required to respond to, a collection of information unless it displays a currently valid OMB control number.

1. Criteria

The following are instructions and guidelines on how to prepare the “project summary/abstract” and “full project description” sections of the application. Under the evaluation criteria section, note that each criterion is preceded by the generic evaluation requirement under the ACF Uniform Project Description (UPD).

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

If any data is to be collected, maintained, and/or disseminated, clearance may be required from the U.S. Office of Management and Budget (OMB). This clearance pertains to any “collection of information that is conducted or sponsored by ACF.” List organizations, cooperating entities, consultants, or other key individuals who will work on the project along with a short description of the nature of their effort or contribution.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non-Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Non-Federal Resources

Description: Amounts of non-Federal resources that will be used to support the project as identified in Block 15 of the SF-424.

Justification: The firm commitment of these resources must be documented and submitted with the application so the applicant is given credit in the review process. A detailed budget must be prepared for each funding source.

Total Direct Charges, Total Indirect Charges, Total Project Costs

Evaluation Criteria:

The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach 50 points

In reviewing the approach, the following factors will be considered: (50 points)

1. The extent to which there is a sound timeline for effectively implementing the proposed project, including major milestones and target dates. The extent to which the proposed project would complete all the activities described in this funding announcement within the 5 year project time frame.

2. The extent to which the overall design and strategies to be used by the proposed QIC demonstrate an understanding of issues in the child welfare system and in child welfare service privatization, and the characteristics, needs and services currently available to children and families brought to the attention of the child welfare system.

3. The extent to which the plan for conducting the needs assessment is: (a) Appropriate and feasible; (b) likely to result in the development of a comprehensive description and evaluation of the current state of child welfare privatization; and (c) likely to identify knowledge gaps and barriers to the effective privatization of child welfare services.

4. The extent to which the strategy for refining the focus for the QIC during the planning year will involve input from a wide range of stakeholders, including key national, regional, State, and local agencies and organizations.

5. The extent to which the Phase I plan presents a feasible and appropriate method for conducting a comprehensive review of the literature that includes the identification of best practices and promising approaches in child welfare service privatization.

6. The extent to which the applicant's preliminary design for Phase II-Version A:

a. Demonstrates that the implementation plan would be developed in a manner which is likely to result in the timely production of a plan that is feasible and appropriate, and includes input from a wide range of relevant sources.

b. Presents a viable conceptual framework or logic model describing the linkages between and among the (1) attributes of the populations, problems, conditions, and systems that are the target of the interventions; (2) resources; (3) traditional and innovative services to be provided; and (4) short- and long-term outcomes.

c. Presents an appropriate and feasible approach for creating an administrative structure for announcing the availability of funding, and reviewing and awarding sub-grants, including program description, agency eligibility, funding levels, application evaluation criteria, and selection process.

d. Presents an appropriate and feasible plan for providing technical assistance to prospective sub-grantees to assist them in designing initiatives that meet the standards for research and demonstration projects funded under this initiative.

e. Presents an appropriate and feasible plan for providing support, guidance and technical assistance to sub-grantees to assist them in project implementation, data collection and evaluation.

f. Presents an appropriate and feasible plan constructing an administrative and management structure for ensuring that sub-grantee projects are implemented within 90-days of the award of their funding by the QIC, monitoring and managing sub-grants funded under this initiative, including appropriate plans for fiscal accountability from the sub-grantee projects.

g. Presents a feasible and appropriate approach to the formation of a consortium and information-sharing network consisting of partnerships with and among sites awarded grants sponsored by the QIC.

h. Presents a feasible and appropriate methodology for evaluating and conducing a cost analysis of sub-grantee research and demonstration projects, including ensuring that appropriate qualitative and quantitative process and outcome data are collected by sub-grantee sites and participating agencies and organizations.

i. Presents feasible and appropriate strategies for information dissemination, including fostering and strengthening communication and coordination activities with National Resource Centers and Clearinghouses including the National Data Archive on Child Abuse and Neglect and the National Clearinghouse on Child Abuse and Neglect Information.

j. Identifies and addresses the conceptual, management and logistical issues involved in developing and implementing the QIC-sponsored research and demonstration projects.

k. Presents a clear and comprehensive vision of how the proposed QIC would operate once sub-grants are awarded.

7. The extent to which there will be an effective administrative and organizational interface between the applicant and key partners. The extent to which the application includes appropriate letters of commitment from these partner organizations.

8. The extent to which the project's evaluation plan would address both the entire project, and each of its sub-parts. The extent to which the evaluation would measure achievement of project objectives, customer satisfaction, acquisition of competencies, effectiveness of program services and project strategies, the efficiency of the implementation process, the effect of privatizing services on outcomes for children and family in the child welfare system, the cost-effectiveness of privatized services, and the impact of the project. The extent to which the methods of evaluation would provide performance feedback, support periodic assessment of program progress and provide a sound basis for program adjustments. The extent to which the proposed evaluation plan would be likely to yield useful findings or results about effective strategies, and contribute to and promote evaluation research and evidence-based practices that could be used to guide replication or testing in other settings. The extent to which applicants that do not have the in-house capacity to conduct an objective, comprehensive evaluation of the project present a sound plan for contracting with a third-party evaluator specializing in social science or evaluation, or a university or college to conduct the evaluation.

9. The extent to which there is a sound plan for documenting project activities and results, including the development of a data collection infrastructure that is sufficient to support a methodologically sound and rigorous evaluation. The extent to which relevant data would be collected. The extent to which there is a sound plan for collecting these data, securing informed consent and implementing an Institutional Review Board (IRB) review, if applicable.

10. The extent to which there is a sound plan for developing useful products during the proposed project and a reasonable schedule for developing these products. The extent to which the intended audience (e.g., researchers, policymakers, and practitioners) for product dissemination is comprehensive and appropriate. The extent to which the dissemination plan includes appropriate mechanisms and forums that would effectively convey the information and support successful replication by other interested agencies.

Organizational Profiles 20 points

In reviewing the organizational profiles, the following factors will be considered: (20 points)

(1) The extent to which the application evidences sufficient experience and expertise in administration, development, implementation, management, and evaluation of similar projects. The extent to which each participating organization (including partners and/or subcontractors) possesses the organizational capability to fulfill their assigned roles and functions effectively (if the application involves partnering and/or subcontracting with other agencies/organizations).

(2) The extent to which the proposed project director and key project staff possess sufficient relevant knowledge, experience and capabilities to implement and manage a project of this size, scope and complexity effectively (e.g., resumes). The extent to which the role, responsibilities and time commitments of each proposed project staff position, including consultants, subcontractors and/or partners, are clearly defined and appropriate to the successful implementation of the proposed project.

(3) The extent to which there is a sound management plan for achieving the objectives of the proposed project on time and within budget, including clearly defined responsibilities, for accomplishing project tasks and ensuring quality. The extent to which the plan clearly describes the effective management and coordination of activities carried out by any partners, subcontractors and consultants (if appropriate). The extent to which there would be a mutually beneficial relationship between the proposed project and other work planned, anticipated or underway with Federal assistance by the applicant.

Objectives and Need for Assistance 20 points

In reviewing the objectives and need for assistance, the following factors will be considered: (20 points)

1. The extent to which the applicant demonstrates an understanding of the goals and objectives of this Quality Improvement Center on Privatization of Child Welfare Services initiative. The extent to which the application presents a clear vision for the proposed project to be developed and implemented. The extent to which the applicant makes a clear statement of the goals (end products of an effective project) and objectives (measurable steps for reaching these goals) of the proposed project. The extent to which these goals and objectives closely relate to objectives of this funding announcement. The extent to which the applicant demonstrates how the proposed project would contribute to achieving these goals and objectives.

2. The extent to which the application demonstrates an understanding of the Child Welfare System and applicable laws, and Federal policies regarding the contracting of Child Welfare services.

3. The extent to which the applicant demonstrates an understanding the challenges facing the child welfare system and the current status of existing services.

4. The extent to which the application demonstrates a thorough understanding of the need for developing and disseminating knowledge about child welfare privatization. The extent to which the applicant clearly describes and documents the types and extent of barriers to privatizing child welfare services; and the potential benefits of child welfare service privatization.

5. The extent to which the applicant demonstrates a clear and concise vision of the role of the QIC in implementing the proposed project.

6. The extent to which the application demonstrates a thorough understanding of the challenges of privatizing child welfare services. The extent to which the application demonstrates a thorough understanding of the challenges that the proposed project will have in developing knowledge about child welfare service privatization. The extent to which the applicant provides a sound plan explaining how the project would successfully overcome these challenges.

7. The extent to which the proposed QIC, if successfully implemented, would build the knowledge base about best practices in child welfare service privatization.

8. The extent to which the application presents a thorough review of the relevant literature that reflects a clear understanding of the research on best practices and promising approaches as it relates to the child welfare system and privatization of child welfare services. The extent to which the review includes a description of the cultural, financial, legal, bureaucratic and other types of barriers to the efficient and effective privatization of child welfare services. The extent to which the review of the literature sets a sound context and rationale for the project. The extent to which it provides evidence that the proposed project is innovative and, if successfully implemented and evaluated, likely to contribute to the knowledge base on child welfare service privatization.

9. The extent to which the proposed QIC would build an infrastructure of collaborative partnerships and information networks that will promote research and innovative demonstration projects that will contribute to increased knowledge or understanding of the problems, issues, and effective strategies and practices in the field of child welfare service privatization.

10. The extent to which the proposed QIC, if successfully implemented, would be likely to yield findings or results that may be used by other agencies and organizations interested in privatization of child welfare services. The extent to which the lessons learned through the proposed project would benefit policy, practice and theory development related to privatization of child welfare services.

11. The extent to which the proposed QIC, if successfully implemented, is likely to develop strategies and sponsor research and demonstration projects that can be replicated by other regions and/or agencies addressing the same or similar problems and, as appropriate, the potential for implementation in a variety of settings.

Budget and Budget Justification 10 points

In reviewing the budget and budget justification, the following factors will be considered: (10 points)

(1) The extent to which the costs of the proposed project are reasonable and appropriate, in view of the activities to be conducted and expected results and benefits. The extent to which the applicant will provide the required match (see Section III.2).

(2) The extent to which the applicant's fiscal controls and accounting procedures would ensure prudent use, proper and timely disbursement and accurate accounting of funds received under this program announcement.

2. Review and Selection Process

Since ACF will be using non-Federal reviewers in the review process, applicants have the option of omitting from the application copies (not the original) of specific salary rates or amounts for individuals specified in the application budget.

No grant award will be made under this announcement on the basis of an incomplete application.

A panel of at least three reviewers (primarily experts from outside the Federal government) will use the evaluation criteria described in this announcement to evaluate each application. The reviewers will determine the strengths and weaknesses of each application, provide comments about the strengths and weaknesses and give each application a numerical score.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions. The Commissioner may give special consideration to applications proposing services of special interest to the Government and to achieve geographic distributions of grant awards. Applications of special interest may include, but are not limited to, applications focusing on underserved or inadequately served clients or service areas and programs addressing diverse ethnic populations.

Available Funds. Applicants should note that grants to be awarded under this program announcement are subject to the availability of funds.

Approved but Unfunded Applications

Applications that are approved but unfunded may be held over for funding in the next funding cycle, pending the availability of funds, for a period not to exceed one year.

3. Anticipated Announcement and Award Dates

Applications will be reviewed in the summer of 2005. Grant awards will have a start date no later than September 30, 2005.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

Grantees are subject to the requirements in 45 CFR Part 74 (non-governmental) or 45 CFR Part 92 (governmental).

Direct federal grants, sub-award funds, or contracts under this program shall not be used to support inherently religious activities such as religious instruction, worship, or proselytization. Therefore, organizations must take steps to separate, in time or location, their inherently religious activities from the services funded under this program. Regulations pertaining to the prohibition of Federal funds for inherently religious activities can be found on the HHS web site at http://www.os.dhhs.gov/fbci/waisgate21.pdf

Special Terms and Conditions

None.

3. Reporting Requirements

Program Progress Reports: Semi-annually.

Financial Reports: Semi-annually.

Grantees will be required to submit program progress and financial reports (SF-269) throughout the project period. Program progress and financial reports are due 30 days after the reporting period. In addition, final programmatic and financial reports are due 90 days after the close of the project period.

Performance Indicator Data, Programmatic Reports and Financial Reports are required semi-annually. All required reports will be submitted in a timely manner, in recommended formats (to be provided), and the final report will also be submitted on disk or electronically using a standard word-processing program.

Within 90 days of project end date, the applicant will submit a copy of the final report and any program products to the National Clearinghouse on Child Abuse and Neglect Information, 330 C Street, SW., Washington, DC 20447. This is in addition to the standard requirement that the final program and evaluation report must also be submitted to the Grants Management Specialist and the Federal Project Officer.

II. Agency Contacts

Program Office Contact: Jan Shafer, Administration for Children and Families, Children's Bureau, 330 C Street, SW., Washington, DC 20447, phone: 202-205-8172, e-mail: jshafer@acf.hhs.gov.

Grants Management Office Contact: Peter Thompson, Grants Officer, Administration for Children and Families, Children's Bureau, 330 C Street, SW. Room 2070, Washington, DC 20447, phone: 202-401-4608, e-mail: pathompson@acf.hhs.gov.

VIII. Other Information

Notice: Beginning with FY 2006, the Administration for Children and Families (ACF) will no longer publish grant announcements in the Federal Register. Beginning October 1, 2005 applicants will be able to find a synopsis of all ACF grant opportunities and apply electronically for opportunities via: http://www.Grants.gov. Applicants will also be able to find the complete text of all ACF grant announcements on the ACF Web site located at: http://www.acf.hhs.gov/grants/index.html.

Additional information about this program and its purpose can be located on the following Web sites: http://www.acf.hhs.gov/programs/cb/.

For general questions regarding this announcement please contact: ACYF Operations Center, The Dixon Group ATTN: Children's Bureau, 118 Q Street, NE., Washington DC 20002-2132, Telephone: 866-796-1591.

Applicants will not be sent acknowledgements of received applications.

Dated: May 25, 2005.
Susan Orr,
Acting Commissioner, Administration on Children, Youth and Families.

[FR Doc. 05-11197 Filed 6-3-05; 8:45 am]

BILLING CODE 4184-01-P